DEPARTMENT OF COMMERCE

Census Bureau

Submission for OMB Review; Comment Request

The Department of Commerce will submit to the Office of Management and Budget (OMB) for clearance the following proposal for collection of information under the provisions of the Paperwork Reduction Act.

Agency: U.S. Census Bureau, Commerce.

Title: 2020 Census Post-Enumeration Survey Initial and Final Housing Unit Follow-up.

OMB Control Number: 0607-XXXX.

Form Number(s): D-1303, D-1303PR, D-1340, D-1340PR, D-1380, D-1380PR, D-1325, D-1325PR, D-1303.Ref, D-1303.Ref(PR), D-1340.Ref, D-1340.Ref(PR), D-26(E/S), D-26PR, D-31 (E/S), D-31PR, D-1028(PES),D-1028(PES)(PR).

Type of Request: Regular submission.

Number of Respondents: 216,200. This includes 180,000 housing units for Initial Housing Unit Follow-up, 8,000 housing units for Final Housing Unit Follow-up, 27,000 housing units for Initial Housing Unit Follow-up Quality Control, and 1,200 housing units for Final Housing Unit Follow-up Quality Control.

Average Hours per Response: 5 minutes.

Burden Hours: 18,017 hours.

Needs and Uses: The Post-Enumeration Survey for the 2020 Census will be conducted to provide estimates of census net coverage error and components of census coverage (such as correct enumerations, omissions, and erroneous enumerations, including duplicates) for housing units and people living in housing units to improve future censuses. The primary sampling unit is the Basic Collection Unit, which is the smallest unit of collection geography for 2020 Census listing operations, usually a block. In addition, a Basic Collection Unit is the building block for field area delineations and other geographic delineations. As in the past, including the 2010 Census Coverage Measurement program, the Post-Enumeration Survey operations and activities must be conducted separate from and independent of the other 2020 Census operations.

During the Independent Listing operation, field staff, referred to as “listers,” will canvass in their assigned Basic Collection Units every street, road, or other place where people might live and construct a list of housing units from scratch. Once the listing for each Basic Collection Unit is complete, the addresses are computer and clerically matched to the 2020 Census addresses in the Initial Housing Unit Matching operation. Addresses that remain unmatched or have unresolved address status after matching will be sent to the Initial Housing Unit Follow-up operation, during which listers collect additional information that might allow a resolution of any differences between the Independent Listing and the preliminary census address list results. Matching to a preliminary census file of housing units allows the Post-Enumeration Survey to conduct person interviews close to census day (April 1, 2020), rather than waiting until the final census list is available, after the delivery of apportionment data in December 2020. In the Final Housing Unit Matching operation, addresses collected in the Independent Listing operation are matched to the final census list of housing units. The Initial Housing Unit Follow-up field operation seeks to answer questions needed to resolve the match or enumeration status of addresses identified in the Initial Housing Unit matching operation, while the Final Housing Unit Follow-up field operation seeks to answer similar questions identified in the Final Housing Unit matching operation.

Addresses identified for both Initial and Final Housing Unit Follow-ups will generally need additional information to determine housing unit status (for example, to clarify if the addresses refer to a housing unit or commercial building and to identify duplicate addresses) or to resolve inconsistencies between the Post-Enumeration Survey and census addresses. Using paper questionnaires tailored to capture information needed to resolve each specific status question or discrepancy, listers will contact a member of each housing unit and ask questions to resolve housing unit status or to clarify discrepancies. If the listers do not find anyone at home after several attempts, they will try to collect the information from a proxy or by observation as a last resort. Proxies are respondents who are not members of the household.

The Initial and Final Housing Unit Follow-up operations will also have separate quality control operations. The first quality control operation is the Initial Housing Unit Follow-up Quality Control, which contains 15 percent of the Initial Housing Unit Follow-up workload. The second quality control operation is the Final Housing Unit Follow-up Quality Control, which contains 15 percent of the Final Housing Unit Follow-up workload. These operations are implemented to ensure that the work performed is of acceptable quality.

Affected Public: Individuals or Households.

Frequency: One Time.

Respondent's Obligation: Mandatory.

Legal Authority: Title 13, U.S. Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer, Commerce Department.

[FR Doc. 2019-20615 Filed 9-23-19; 8:45 am]

BILLING CODE 3510-07-P